ELECTION ASSISTANCE COMMISSION

Voting System Manufacturer Registration and Application for Testing; Survey and Submission to OMB of Proposed Collection of Information

AGENCY: U.S. Election Assistance Commission.

ACTION: Notice; request for comment.

SUMMARY: In compliance with the Paperwork Reduction Act of 1995, the EAC announces an information collection and seeks public comment on the provisions thereof. The EAC intends to submit this proposed information collection to the Director of the Office of Management and Budget for approval. The U.S. Election Assistance Commission (EAC) is publishing two information collecting forms for its Voting System Testing and Certification Program. The information collected is to be used to improve the quality of voting systems used in federal elections. Participation in this program is voluntary. The program is mandated by the Help America Vote Act (HAVA).

DATES: Comments should be submitted by 5 p.m. on Tuesday, May 3, 2022.

ADDRESSES: Written comments and recommendations for the proposed information collection should be sent to www.reginfo.gov/public/do/PRAMain. Find this particular information collection by selecting “Currently under 60-day Review—Open for Public Comments” or by using the search function.

FOR FURTHER INFORMATION CONTACT: Paul Aumayr, Senior Election Technology Specialist, Testing and Certification Program, Washington, DC, (301) 563-3919. All requests and submissions should be identified by the title of the information collection.

SUPPLEMENTARY INFORMATION:

Title and OMB Number

Voting System Manufacturer Registration and Application for Testing; OMB Number Pending.

Purpose

Under the PRA (44 U.S.C. 3501-3520), Federal Agencies must obtain approval from the Office of Management and Budget (OMB) for each collection of information they conduct or sponsor. “Collection of information” is defined in 44 U.S.C. 3502(3) and 5 CFR 1320.3(c) and includes Agency requests or requirements that members of the public submit reports, keep records, or provide information to a third party. Section 3506(c)(2)(A) of the PRA requires Federal Agencies to provide a 60-day notice in the Federal Register concerning each proposed collection of information, including each proposed extension of an existing collection of information, before submitting the collection to OMB for approval. To comply with this requirement, the EAC is publishing notice of the proposed collection of information set forth in this document.

HAVA requires that the EAC certify and decertify voting systems. Section 231(a)(1) of HAVA (52 U.S.C. 20971) specifically requires the EAC to “provide for the testing, certification, decertification and recertification of voting system hardware and software by accredited laboratories.” To meet this obligation, the EAC has created a voluntary testing and certification program to test voting systems to federal voting system standards.

The program is to publish two forms. An initial manufacturer registration form, and a voting system application form. These are to be used to collect information from voting system manufacturers who wish to participate in the program and the voting systems they intend to submit for testing and certification. The registration form collects information on the manufacturer ownership, contact details for certain directors and senior staff, and the manufacturers quality processes. The voting system application collects administrative information on new or modified voting systems. This information is collected to improve the quality of voting systems used in federal elections.

Public Comments

We are soliciting public comments to permit the EAC to:

• Evaluate whether the proposed information collection is necessary for the proper functions of the Office of Grants Management.

• Evaluate the accuracy of our estimate of burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Annual Reporting Burden

OMB approval is requested for 3 years.

Respondents: Voting System Manufacturers.

Annual Burden Estimates

Estimated Burden in hours—12 hours.

Estimated Burden cost—$976.

Amanda Joiner,
Acting General Counsel, U.S. Election Assistance Commission.

[FR Doc. 2022-04818 Filed 3-7-22; 8:45 am]

BILLING CODE 6820-KF-P